DEPARTMENT OF ENERGY

Federal Energy Regulatory Commission

Combined Notice of Filings

March 12, 2010.

Take notice that the Commission has received the following Natural Gas Pipeline Rate and Refund Report filings:

Docket Numbers: RP08-463-002.

Applicants: Enbridge Offshore Pipelines (UTOS) LLC.

Description: Request of Enbridge Offshore Pipelines (UTOS) LLC for an extension of time.

Filed Date: 02/02/2010.

Accession Number: 20100202-5163.

Comment Date: 5 p.m. Eastern Time on Wednesday, March 17, 2010.

Docket Numbers: RP08-464-002.

Applicants: Stingray Pipeline Company, L.L.C.

Description: Request for an extension of time of Stingray Pipeline Company, L.L.C.

Filed Date: 02/02/2010.

Accession Number: 20100202-5164.

Comment Date: 5 p.m. Eastern Time on Wednesday, March 17, 2010.

Docket Numbers: RP08-465-002.

Applicants: Nautilus Pipeline Company, L.L.C.

Description: Request for an extension of time of Nautilus Pipeline Company, L.L.C.

Filed Date: 02/02/2010.

Accession Number: 20100202-5162.

Comment Date: 5 p.m. Eastern Time on Wednesday, March 17, 2010.

Docket Numbers: RP08-461-001.

Applicants: Garden Banks Gas Pipeline, LLC.

Description: Request of Garden Banks Gas Pipeline, LLC for an extension of time to implement an electronic short-term capacity release posting and bidding system pursuant to Order 712.

Filed Date: 02/04/2010.

Accession Number: 20100204-5093.

Comment Date: 5 p.m. Eastern Time on Wednesday, March 17, 2010.

Docket Numbers: RP08-466-001.

Applicants: Mississippi Canyon Gas Pipeline, L.L.C.

Description: Request of Mississippi Canyon Gas Pipeline, LLC for an extension of time to implement an electronic short-term capacity release posting and bidding system pursuant to Order 712.

Filed Date: 02/04/2010.

Accession Number: 20100204-5094.

Comment Date: 5 p.m. Eastern Time on Wednesday, March 17, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern Time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Nathaniel J. Davis, Sr.,
Deputy Secretary.

[FR Doc. 2010-6484 Filed 3-23-10; 8:45 am]

BILLING CODE 6717-01-P